DEPARTMENT OF ENERGY

Secretary of Energy Advisory Board

AGENCY: Department of Energy, Office of the Secretary.

ACTION: Notice of renewal.

SUMMARY: Pursuant to Section 14(a)(2)(A) of the Federal Advisory Committee Act, (Pub. L. 92-463), and in accordance with Title 41 of the Code of Federal Regulations, Section 102-3.65(a), and following consultation with the Committee Management Secretariat, General Services Administration, notice is hereby given that the Secretary of Energy Advisory Board (SEAB) will be renewed for a two-year period beginning on August 30, 2012.

The Committee will provide advice and recommendations to the Secretary of Energy on a range of energy-related issues.

Additionally, the renewal of the SEAB has been determined to be essential to conduct business of the Department of Energy and to be in the public interest in connection with the performance of duties imposed upon the Department of Energy, by law and agreement. The Committee will continue to operate in accordance with the provisions of the Federal Advisory Committee Act, adhering to the rules and regulations in implementation of that Act.

FOR FURTHER INFORMATION CONTACT: Amy Bodette, Designated Federal Officer at (202) 586-0383.

Issued at Washington, DC on August 30, 2012.
Carol A. Matthews,
Committee Management Officer.

[FR Doc. 2012-22072 Filed 9-6-12; 8:45 am]

BILLING CODE 6450-01-P